NATIONAL CREDIT UNION ADMINISTRATION

Submission for OMB Review; Comment Request

AGENCY: National Credit Union Administration (NCUA).

ACTION: Notice.

SUMMARY: The National Credit Union Administration (NCUA) will be submitting the following information collection request to the Office of Management and Budget (OMB) for review and clearance in accordance with the Paperwork Reduction Act of 1995, Public Law 104-13, on or after the date of publication of this notice.

DATES: Comments should be received on or before January 27, 2017 to be assured of consideration.

ADDRESSES: Send comments regarding the burden estimate, or any other aspect of the information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Alexandria, VA 22314, Suite 5067, or email at PRAComments@ncua.gov.

FOR FURTHER INFORMATION CONTACT: Copies of the submission may be obtained by emailing PRAComments@ncua.gov or viewing the entire information collection request at www.reginfo.gov.

SUPPLEMENTARY INFORMATION:

OMB Number: 3133-0004.

Type of Review: Revision of a previously approved collection.

Title: NCUA Call Report and Profile.

Abstract: Sections 106 and 202 of the Federal Credit Union Act require federally insured credit unions to make financial reports to the NCUA. Section 741.6 prescribes the method in which federally insured credit unions must submit this information to NCUA. NCUA Form 5300, Call Report, is used to file quarterly financial and statistical data and NCUA Form 4501A, Credit Union Profile, is used to obtain non-financial data relevant to regulation and supervision such as the names of senior management and volunteer officials, and are reported through NCUA's on-line portal, Credit Unions Online.

Revisions are being made to NCUA Forms 5300, Call Report, and 4501A, Credit Union Profile, to capture applicable data implemented by amendments to 12 CFR part 723, Member Business Loans; Commercial Lending. Changes involve moving loan details to a separate page and revising the Call Report loans and business lending, and Credit Union Profile programs and services sections to reflect “commercial” lending terminology. The amount of data elements removed compared to those being added have negated any program differences in burden. Adjustments in the number respondents are due to the decline of federally-insured credit unions.

Affected Public: Private Sector: Not-for-profit institutions.

Estimated Annual Burden Hours: 142,896.

By Gerard Poliquin, Secretary of the Board, the National Credit Union Administration, on December 21, 2016.
Dated: December 21, 2016.
Troy S. Hillier,
NCUA PRA Clearance Officer.

[FR Doc. 2016-31269 Filed 12-27-16; 8:45 am]

BILLING CODE 7535-01-P